DEPARTMENT OF THE TREASURY

Treasury Financial Management Advisory Committee (TFMAC)

AGENCY: Departmental Offices, Department of the Treasury.

ACTION: Notice of intent to establish.

SUMMARY: The Department of the Treasury proposes to establish an advisory committee for financial management. The purpose of this committee is to provide oversight and recommendations regarding the Department's financial reporting process, management controls, audit process, process for monitoring compliance with laws and regulations, and its business conduct policies. This committee is one of six cabinet-level agency committees that the Joint Financial Management Improvement Program (JFMIP) has targeted to pilot the financial management committee concept at the agency level in the Federal government. The TFMAC will perform duties similar to an audit committee in the private sector. TFMAC members will review, analyze, and make recommendations on any matters within its scope of responsibility including the Department's annual audit, management controls, significant risks, performance of the auditors with respect to the audit of the Departmental financial statements, and major changes to the Treasury's auditing and accounting principles and practices as suggested by the auditors or management.

FOR FURTHER INFORMATION CONTACT: Stuart Levy, Designated Federal Official, (202) 622-1355 (not a toll free number).

Dated: May 27, 2003.
Stuart Levy,
Designated Federal Official.

[FR Doc. 03-13611 Filed 5-30-03; 8:45 am]

BILLING CODE 4811-16-P